DEPARTMENT OF EDUCATION

34 CFR Chapter III

[Docket ID ED-2014-OSERS-0072; CFDA Number: 84.264A]

Proposed Priority—Rehabilitation Training; Job-Driven Vocational Rehabilitation Technical Assistance Center

AGENCY: Office of Special Education and Rehabilitative Services, Department of Education.

ACTION: Proposed priority.

SUMMARY: The Assistant Secretary for Special Education and Rehabilitative Services proposes a priority to establish a Job-Driven Vocational Rehabilitation Technical Assistance Center. The Assistant Secretary may use this priority for competitions in fiscal year (FY) 2014 and later years. We take this action to provide training and technical assistance to improve the capacity of State Vocational Rehabilitation (VR) agencies and their partners to equip individuals with disabilities with the skills and competencies necessary to help them obtain high-quality competitive employment.

DATES: We must receive your comments on or before July 21, 2014.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery: If you mail or deliver your comments about these proposed regulations, address them to Jerry Elliott, U.S. Department of Education, 400 Maryland Avenue SW., Room 5042, Potomac Center Plaza (PCP), Washington, DC 20202-2800.

Privacy Note: The Department's policy is to make all comments received from members of the public available for public viewing in their entirety on the Federal eRulemaking Portal at www.regulations.gov. Therefore, commenters should be careful to include in their comments only information that they wish to make publicly available.

FOR FURTHER INFORMATION CONTACT: Jerry Elliott. Telephone: (202) 245-7335 or by email: jerry.elliott@ed.gov.

If you use a telecommunications device for the deaf (TDD) or a text telephone (TTY), call the Federal Relay Service (FRS), toll free, at 1-800-877-8339.

SUPPLEMENTARY INFORMATION: Invitation to Comment: We invite you to submit comments regarding this notice. To ensure that your comments have maximum effect in developing the notice of final priority, we urge you to identify clearly the specific section of the proposed priority that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about these proposed regulations by accessing Regulations.gov. You may also inspect the comments in person in Room 5042, 550 12th Street SW., PCP, Washington, DC 20202-2800, between the hours of 8:30 a.m. and 4:00 p.m., Washington, DC time, Monday through Friday of each week except Federal holidays. Please contact the person listed under FOR FURTHER INFORMATION CONTACT. Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: Under the Rehabilitation Act of 1973, as amended (the Rehabilitation Act), the Rehabilitation Services Administration (RSA) makes grants to States and public or nonprofit agencies and organizations (including institutions of higher education) to support projects that provide training, traineeships, and technical assistance designed to increase the numbers of, and improve the skills of, qualified personnel (especially rehabilitation counselors) who are trained to: Provide vocational, medical, social, and psychological rehabilitation services to individuals with disabilities; assist individuals with communication and related disorders; and provide other services authorized under the Rehabilitation Act.

Program Authority: 29 U.S.C. 772(a)(1).

Proposed Priority

This notice contains one proposed priority.

Job-Driven Vocational Rehabilitation Technical Assistance Center

Background:

On January 30, 2014, President Barack Obama issued a Presidential Memorandum to the Secretaries of the Departments of Labor, Commerce, and Education directing them to take action to address job-driven training for the Nation's workers. The memorandum instructed the Secretaries to develop concrete steps to make Federal workforce and training programs and policies (a) more focused on imparting relevant skills with job-market value, (b) more easily accessed by employers and job seekers, and (c) more accountable for producing positive employment and earning outcomes for the people they serve. Those steps were also required to be consistent with the job-driven training principles outlined in the memorandum, including: Promoting more engagement with industry, employers, employer associations, and worker representatives to identify the skills and supports workers need; providing support for secondary and post-secondary education and training entities to equip individuals with the skills, competencies, and credentials necessary to help individuals obtain jobs, increase earnings, and advance their careers; and making available to workers, job seekers, and employers the best information regarding job demand, skills matching, supports, as well as education, training, and career options.

While education and training, labor market information, and relevant job skills are important for all workers, they are particularly important for individuals with disabilities so that they can access more competitive jobs with good wages and benefits. Individuals with disabilities have higher unemployment rates than individuals without disabilities (in 2013, 12.9 percent and 6.9 percent, respectively) and lower participation rates in the workforce by a substantial margin (in 2013, 20.7 percent and 68.8 percent, respectively) (Department of Labor, 2014). In addition, State VR agencies have seen a significant decrease in the number of individuals with disabilities achieving competitive employment outcomes. At the beginning of the recession, total State VR agency consumers achieving competitive employment outcomes dropped by about 23,000, from 194,979 in FY 2008 to 171,721 in FY 2009. Four years later, the number of individuals with disabilities achieving competitive employment outcomes has risen only slightly, to 176,792 (RSA, 2012). To increase the number of VR consumers who achieve employment outcomes, State VR agencies need to upgrade the knowledge and skills of their personnel and providers so that they are better able to build effective partnerships with employers and assist VR consumers in obtaining the competencies and job skills required in today's competitive labor market.

State VR agencies also need assistance in implementing approaches that promote more active engagement of employers in facilitating competitive employment for, and retention of, individuals with disabilities in the workplace. However, there are emerging practices in some State VR agencies that could be developed and disseminated to other State VR agencies.

For example, State VR agencies could hire staff as business employment representatives (BERs) or as specialists in job placement for a particular area of a State as part of an overall State VR agency approach to building relationships with employers. In a recent survey, findings reveal that the majority of VR agencies employ BERs (45 out of 64 reporting agencies; 70.3%). Of those VR agencies employing BERs, 21 reported employing five or fewer BERs, 10 reported employing between six and ten BERs, and 14 reported employing more than 10 BERs. BERs compose 0.1% to 43.9% of staffing relative to the total number of counseling staff throughout VR state agencies employing BERs (Porter et al., 2012). This range represents widely differing emphases on the use of BERs for employer engagement activities.

In Vermont, Creative Workforce Solutions, a system of service provision to employers and qualified workers who face challenges entering or reentering the workforce, is an example of a more comprehensive approach to employer engagement and the use of BERs. This system includes BERs; a package of work-based learning services for employers and job-seekers that includes risk-free trial employment, on-the-job training, and internships; and employer support services related to accommodations, accessibility, and training for employees.

Another emerging job-driven approach is customized training. These training programs are designed to meet the special requirements of an employer or group of employers and are typically conducted with a commitment by the employer to employ (or, in the case of incumbent workers, continue to employ) individuals upon successful completion of the training. In this approach, employers often pay a portion of the cost of the training, reducing costs for job seekers and VR agencies.

Some State VR agencies are already involved with customized training efforts. For example, the Maryland Division of Rehabilitation Services' (DORS) Workforce & Technology Center has developed customized training programs that provide short-term, intensive training for individuals not pursuing college degrees who are interested in obtaining either an industry certification or just the skills required for competitive employment at a higher entry wage. DORS' customized training programs have been developed in partnership with community colleges and employers; are based on labor market research and hiring trends, inquiries from local businesses, and requests from DORS counselors and DORS consumers (RSA, 2014).

We believe that providing training and intensive TA to VR personnel and related providers will be critical in assisting State VR agencies in successfully incorporating job-driven approaches into the VR service delivery system and in increasing employment outcomes for individuals with disabilities.

References

Obama, B.H. (2014). Presidential Memorandum on Job-Driven Training for Workers. January 30, 2014. Available at: www.whitehouse.gov/the-press-office/2014/01/30/presidential-memorandum-job-driven-training-workers.

Porter, E., Kwan, N., Marrone, J., & Foley, S. (2012). Demand-Side Strategies: Prevalence of Business Employment Representatives in Vocational Rehabilitation Agencies. Review VR, 1, 2012. Available at: http://explorevr.org/files/review_vr/ReviewVR_1.pdf.

Rehabilitation Services Administration (RSA). (2014). Emerging Practices; Maryland: Customized and Partnership Training. Available at: https://rsa.ed.gov/emerging-practices.cfm.

Rehabilitation Services Administration (RSA). (2012). Case Service Report. RSA 911.

U.S. Department of Labor (DOL). (2014). Economic New Release: Table A-6. Employment status of the civilian population by sex, age and disability status, not seasonally adjusted. Available at: www.bls.gov/news.release/empsit.t06.htm.

Proposed Priority:

The purpose of this proposed priority is to fund a cooperative agreement to establish a Job-Driven Vocational Rehabilitation Technical Assistance Center (JDVRTAC) to achieve, at a minimum, the following outcomes: (a) Improve the ability of State VR agencies to work with employers and providers of training to ensure equal access to and greater opportunities for individuals with disabilities to engage in competitive employment or training; (b) Increase the number and quality of employment outcomes in competitive, integrated settings for VR-eligible individuals with disabilities, including broadening the range of occupations for such individuals in such settings; and (c) Increase the number of VR-eligible individuals with disabilities in employer-driven job training programs.

The JDVRTAC will develop and provide training and TA to State VR agency staff and related rehabilitation professionals and service providers in the following four job-driven topic areas:

(a) Use of labor market data and occupational information to provide individuals with disabilities with the best information regarding job demand, skills matching, supports, and education, training, and career options;

(b) Disability-related consultation and services to employers related to competitive employment of individuals with disabilities (including individuals with the most significant disabilities) and strategies to recruit, train and serve employees with disabilities for the purposes of hiring, job retention, or return to work;

(c) Building and maintaining relationships with employers; and

(d) Services to providers of customized training and other types of training that are directly responsive to employer needs and hiring requirements.

Project Activities.

To meet the requirements of this priority, the JDVRTAC must, at a minimum, conduct the following activities:

Knowledge Development Activities.

(a) In the first year, collect information from the literature and from existing State and Federal programs regarding evidence-based and promising practices relevant to the work of the JDVRTAC and make this information publicly available in a searchable, accessible, and useful format. The JDVRTAC should review, at a minimum:

(1) The results of State VR agency monitoring conducted by RSA; and

(2) State VR agency program and performance data.

(b) In the first year, conduct a survey of relevant stakeholders and VR service providers to identify job-driven TA needs and a process by which TA solutions can be offered to State VR agencies and their partners. The JDVRTAC should survey, at a minimum:

(1) State VR agency staff; and

(2) Relevant RSA staff.

(c) Develop and refine four curriculum guides for VR staff training in:

(1) The use of labor market and occupational information for purposes of planning and job-matching with individuals with disabilities;

(2) Building programs of employer engagement, employer services, and program participation support services for institutions providing employer-driven training programs;

(3) Delivery of support services to providers of customized training and other job training directly responsive to employer needs and hiring requirements to promote and support the inclusion of individuals with disabilities in such training programs; and

(4) Delivery of support services to employers who hire individuals with disabilities from employer-driven training programs.

Technical Assistance and Dissemination Activities.

(a) Provide intensive TA to a minimum of 16 State VR agencies and their associated rehabilitation professionals and service providers in the four job-driven topic areas set out in this priority. The JDVRTAC must provide intensive TA to a minimum of two agencies in the first year of the project, a minimum of ten agencies in the second year of the project, and a minimum of four agencies in the third year of the project. Such TA must include:

(1) For topic area (a), how to research, understand, and use up-to-date labor market information to assist individuals with disabilities to make informed career decisions and develop vocational goals;

(2) For topic area (b)—

(i) How to research, understand, and use up-to-date labor market information to effectively communicate with and address the needs of—

(A) Employers;

(B) Job seekers with disabilities; and

(C) Employees with disabilities.

(ii) How to balance job-seeker skills and informed choice with the needs and demands of employers;

(iii) Informational resources for employers on accommodations, including assistive technology;

(iv) Effective marketing and outreach to employers, such as how best to present information about job-ready applicants to employers including what VR counselors and placement staff need to know about a specific employer and its business; and

(v) How to use occupational information resources to ensure optimal vocational guidance and counseling that result in the best fit for applicants and workers with disabilities and employers.

(3) For topic area (c), how to build and maintain partnerships with employers, looking at new or existing research about the relationship between employer practices and employment outcomes among individuals with disabilities, and promising practices for employer engagement.

(4) For topic area (d)—

(i) How to identify and access employer-driven training programs;

(ii) How to incorporate individuals with disabilities into training programs in which individuals with disabilities have been historically underrepresented; and

(iii) How to assist VR-eligible individuals with disabilities in accessing customized training or other job training that is directly responsive to employer needs and hiring requirements, including, but not limited to, training offered by providers under the Carl D. Perkins Career and Technical Education Improvement Act, H-1B Ready to Work Partnership Grants, and Trade Adjustment Assistance Community College and Career Training Grants.

(b) Provide a range of targeted and general TA products and services on the four job-driven topic areas in this priority. Such TA should include, at a minimum, the following activities:

(1) Developing and maintaining a state-of-the-art information technology (IT) platform sufficient to support Webinars, teleconferences, video conferences, and other virtual methods of dissemination of information and TA;

(2) Developing and maintaining a state-of-the-art archiving and dissemination system that provides a central location for later use of TA products, including course curricula, audiovisual materials, Webinars, examples of emerging and best practices related to the four job-driven topic areas in this notice, and any other TA products, that is open and available to the public; and

(3) Providing a minimum of two webinars or video conferences on each of the four job-driven topic areas in this notice to describe and disseminate information about emerging and best practices in each area.

Coordination Activities.

(a) Establish a community of practice that will act as a vehicle for communication, exchange of information among State VR agencies and partners, and a forum for sharing the results of TA projects that are in progress or have been completed. Such community of practice must be focused on the use of labor market and occupational information for individual planning, employer services and communication, and support of employer-driven training services;

(b) Communicate and coordinate, on an ongoing basis, with other Department-funded projects and those supported by the Departments of Labor and Commerce; and

(c) Maintain ongoing communication with the RSA project officer.

Application Requirements.

To be funded under this priority, applicants must meet the application and administrative requirements in this priority. RSA encourages innovative approaches to meet these requirements, which are:

(a) Demonstrate, in the narrative section of the application under “Significance of the Project,” how the proposed project will—

(1) Address State VR agencies' capacity to work with employers and providers of training to ensure equal access to and greater opportunities for individuals with disabilities to engage in competitive employment or training. To meet this requirement, the applicant must:

(i) Demonstrate knowledge of emerging and best practices in employer engagement;

(ii) Demonstrate knowledge of current RSA guidance and State and Federal initiatives designed to improve employer engagement and alignment of workforce training programs with employer needs; and

(iii) Present information about the difficulties that State VR agencies and service providers have encountered in developing effective employer engagement plans.

(2) Result in increases in both the number of VR-eligible individuals with disabilities in employer-driven job-training programs, and the number and quality of employment outcomes in competitive, integrated settings for VR-eligible individuals with disabilities, including broadening the range of occupations for such individuals in such settings.

(b) Demonstrate, in the narrative section of the application under “Quality of Project Services,” how the proposed project will—

(1) Achieve its goals, objectives, and intended outcomes. To meet this requirement, the applicant must provide—

(i) Measurable intended project outcomes;

(ii) A plan for how the proposed project will achieve its intended outcomes; and

(iii) A plan for communicating and coordinating with key staff in State VR agencies, State and local partner programs, providers of customized training programs and other training programs that are directly responsive to employer needs and hiring requirements, RSA partners such as the Council of State Administrators of Vocational Rehabilitation (CSAVR), the National Council of State Agencies for the Blind, CSAVR's National Employment Team, and other TA centers and relevant programs within the Departments of Education, Labor, and Commerce.

(2) Use a conceptual framework to develop project plans and activities, describing any underlying concepts, assumptions, expectations, beliefs, or theories, as well as the presumed relationships or linkages among these variables, and any empirical support for this framework.

(3) Be based on current research and make use of evidence-based practices. To meet this requirement, the applicant must describe—

(i) The current research on the emerging and promising practices in the four job-driven topic areas in this priority;

(ii) How the current research about adult learning principles and implementation science will inform the proposed TA; and

(iii) How the proposed project will incorporate current research and evidence-based practices in the development and delivery of its products and services.

(4) Develop products and provide services that are of high quality and sufficient intensity and duration to achieve the intended outcomes of the proposed project. To address this requirement, the applicant must describe—

(i) Its proposed activities to identify or develop the knowledge base on emerging and promising practices in the four job-driven topic areas in this priority;

(ii) Its proposed approach to universal, general TA ¹;

¹ For the purposes of this priority, “universal, general TA” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iii) Its proposed approach to targeted, specialized TA,² which must identify—

² For the purposes of this priority, “targeted, specialized TA” means TA service based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients of the products and services under this approach; and

(B) Its proposed approach to measure the readiness of State VR agencies to work with the proposed project, assessing, at a minimum, their current infrastructure, available resources, and ability to effectively respond to the TA, as appropriate.

(iv) Its proposed approach to intensive, sustained TA,³ which must identify—

³ For the purposes of this priority, “intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients of the products and services under this approach;

(B) Its proposed approach to measure the readiness of the State VR agencies to work with the proposed project including the State VR agencies' commitment to the initiative, fit of the initiatives, current infrastructure, available resources, and ability to effectively respond to the TA, as appropriate;

(C) Its proposed plan for assisting State VR agencies to build training systems that include professional development based on adult learning principles and coaching; and

(D) Its proposed plan for developing agreements with State VR agencies to provide intensive, sustained TA. The plan must describe how the agreements will outline the purposes of the TA, the intended outcomes of the TA, and the measurable objectives of the TA that will be evaluated.

(5) Develop products and implement services to maximize the project's efficiency. To address this requirement, the applicant must describe—

(i) How the proposed project will use technology to achieve the intended project outcomes; and

(ii) With whom the proposed project will collaborate and the intended outcomes of this collaboration.

(c) Demonstrate, in the narrative section of the application under “Quality of the Evaluation Plan,” how the proposed project will—

(1) Measure and track the effectiveness of the TA provided. To meet this requirement, the applicant must describe its proposed approach to—

(i) Collecting data on the effectiveness of each TA activity from State VR agencies, partners, or other sources, as appropriate; and

(ii) Analyzing data and determining effectiveness of each TA activity, including any proposed standards or targets for determining effectiveness.

(2) Collect and analyze data on specific and measurable goals, objectives, and intended outcomes of the project, including measuring and tracking the effectiveness of the TA provided. To address this requirement, the applicant must describe—

(i) Its proposed evaluation methodologies, including instruments, data collection methods, and analyses; and

(ii) Its proposed standards or targets for determining effectiveness.

(iii) How it will use the evaluation results to examine the effectiveness of its implementation and its progress toward achieving the intended outcomes; and

(iv) How the methods of evaluation will produce quantitative and qualitative data that demonstrate whether the project and individual TA activities achieved their intended outcomes.

(d) Demonstrate, in the narrative section of the application under “Adequacy of Project Resources,” how—

(1) The proposed project will encourage applications for employment from persons who are members of groups that have traditionally been underrepresented based on race, color, national origin, gender, age, or disability, as appropriate;

(2) The proposed key project personnel, consultants, and subcontractors have the qualifications and experience to provide TA to State VR agencies and their partners in each of the four job-driven topic areas described in this notice and to achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks.

(2) Key project personnel and any consultants and subcontractors will be allocated to the project and how these allocations are appropriate and adequate to achieve the project's intended outcomes, including an assurance that such personnel will have adequate availability to ensure timely communications with stakeholders and RSA;

(3) The proposed management plan will ensure that the products and services provided are of high quality; and

(4) The proposed project will benefit from a diversity of perspectives, including those of State and local personnel, TA providers, researchers, and policy makers, among others, in its development and operation.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority:

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this proposed regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only on a reasoned determination that its benefits would justify its costs. In choosing among alternative regulatory approaches, we selected those approaches that would maximize net benefits. Based on the analysis that follows, the Department believes that this regulatory action is consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

We propose to fund through this priority technical assistance to State VR agencies to improve the quality of VR services and ultimately the number and quality of their employment outcomes. This proposed priority would promote the efficient and effective use of Federal funds.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 16, 2014.
Michael K. Yudin,
Acting Assistant Secretary for Special Education and Rehabilitative Services.

[FR Doc. 2014-14390 Filed 6-18-14; 8:45 am]

BILLING CODE 4000-01-P